DEPARTMENT OF ENERGY

Federal Energy Regulatory Commission

[Docket No. CP22-17-000]

Rio Grande LNG, LLC; Notice of Scoping Period Requesting Comments on Environmental Issues for the Proposed Carbon Capture and Sequestration System Amendment, and Notice of Public Scoping Sessions

The staff of the Federal Energy Regulatory Commission (FERC or Commission) will prepare an environmental document that will discuss the environmental impacts of the Carbon Capture and Sequestration System Amendment (CCS System Amendment) involving construction and operation of facilities by Rio Grande LNG, LLC (Rio Grande) in Cameron County, Texas. Rio Grande's CCS System Amendment was filed under section 3 of the Natural Gas Act as an amendment to its November 22, 2019 Authorization order for the Rio Grande LNG Terminal.¹ The Commission will use this environmental document in its decision-making process to determine whether the CCS System Amendment is consistent with the public interest.

¹ Rio Grande LNG, LLC, 169 FERC ¶ 61,131 (2019), order on reh'g, 170 FERC ¶ 61,046 (2020).

This notice announces the opening of the scoping process the Commission will use to gather input from the public and interested agencies regarding the project amendment. As part of the National Environmental Policy Act (NEPA) review process, the Commission takes into account concerns the public may have about proposals and the environmental impacts that could result from its action whenever it considers the issuance of an authorization under Section 3 of the Natural Gas Act. This gathering of public input is referred to as “scoping.” The main goal of the scoping process is to focus the analysis in the environmental document on the important environmental issues. Additional information about the Commission's NEPA process is described below in the NEPA Process and Environmental Document section of this notice.

By this notice, the Commission requests public comments on the scope of issues to address in the environmental document. To ensure that your comments are timely and properly recorded, please submit your comments so that the Commission receives them in Washington, DC on or before 5:00 p.m. Eastern Time on Monday, October 3, 2022. Comments may be submitted in written or oral form. Further details on how to submit comments are provided in the Public Participation section of this notice.

Your comments should focus on the potential environmental effects, reasonable alternatives, and measures to avoid or lessen environmental impacts. Your input will help the Commission staff determine what issues they need to evaluate in the environmental document. Commission staff will consider all written or oral comments during the preparation of the environmental document.

If you submitted comments on this project amendment to the Commission before the opening of this docket on November 17, 2021, you will need to file those comments in Docket No. CP22-17-000 to ensure they are considered as part of this proceeding.

This notice is being sent to the Commission's current environmental mailing list for this project amendment. State and local government representatives are encouraged to notify their constituents of this proposed project amendment and encourage them to comment on their areas of concern.

Public Participation

There are four methods you can use to submit your comments to the Commission. Please carefully follow these instructions so that your comments are properly recorded. The Commission encourages electronic filing of comments and has staff available to assist you at (866) 208-3676 or FercOnlineSupport@ferc.gov.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”;

(3) You can file a paper copy of your comments by mailing them to the Commission. Be sure to reference the project docket number (CP22-17-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

(4) In lieu of sending written comments, the Commission invites you to attend one of the public scoping sessions its staff will conduct in the project area, scheduled as follows:

Date and time | Location
Tuesday, September 27, 2022
Session 1: 9:00 a.m.-11:30 a.m. Session 2: 5:30 p.m.-8:00 p.m. (local time) | Port Isabel Event and Cultural Center, 309 E Railroad Avenue, Port Isabel, TX 78578, 956-943-0720.

The primary goal of these scoping sessions is to have you identify the specific environmental issues and concerns that should be considered in the environmental document. Individual oral comments will be taken on a one-on-one basis with a court reporter. This format is designed to receive the maximum amount of oral comments in a convenient way during the timeframe allotted. Spanish-English translation services will be provided.

Scoping sessions are scheduled from 9:00 a.m. to 11:30 a.m. and from 5:30 p.m. to 8:00 p.m. Central time. Entrance into the facility will begin at the start time of each meeting. There will not be a formal or opening presentation by Commission staff for either session. If you wish to speak, the Commission staff will hand out numbers in the order of your arrival. Please see appendix 1 for additional information on the session format and conduct.²

² The appendices referenced in this notice will not appear in the Federal Register. Copies of the appendices were sent to all those receiving this notice in the mail and are available at www.ferc.gov using the link called “eLibrary.” For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Your scoping comments will be recorded by a court reporter (with FERC staff or representative present) and become part of the public record for this proceeding. Transcripts will be publicly available on FERC's eLibrary system (see the last page of this notice for instructions on using eLibrary). If a significant number of people are interested in providing oral comments in the one-on-one settings, a time limit of 3 minutes may be implemented for each commentor. Although there will not be a formal presentation, Commission staff will be available throughout the scoping session to answer your questions about the environmental review process.

It is important to note that the Commission provides equal consideration to all comments received, whether filed in written form or provided orally at a scoping session.

Additionally, the Commission offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

Summary of the Proposed Project Amendment

Rio Grande proposes to construct and operate a carbon capture and sequestration system (CCS System) for incorporation into the design of its Rio Grande LNG Terminal Project that was previously approved by the Commission in Docket No. CP16-454-000. According to Rio Grande, the proposed CCS System Amendment would enable Rio Grande to capture a minimum of 90 percent of the carbon dioxide produced at the Rio Grande LNG Terminal, which would then be transported via a proposed pipeline (which would not be under FERC jurisdiction) to a nearby underground geologic formation for sequestration. This pipeline and sequestration of carbon dioxide in the geologic formation would require permits from the U.S. Environmental Protection Agency (EPA) and relevant Texas agencies via EPA's underground injection control Class VI permitting regime for geologic sequestration.

The CCS System Amendment would consist of the following facility modifications, components, and equipment at the approved but as yet unbuilt Rio Grande LNG Terminal:

• a post-combustion capture system for the exhaust flue gas of the Rio Grande LNG Terminal's main refrigerant gas turbine compressors;

• the re-routing of the Rio Grande LNG Terminal's acid gas removal unit vent stream from a thermal oxidizer to a sequestration compressor;

• the addition of a sequestration compressor to the combined gas streams from the post-combustion capture system and acid gas removal unit to meet an interface with a carbon dioxide sequestration pipeline;

• modifications to the Rio Grande LNG Terminal utility design to accommodate CCS System equipment, such as various heat exchangers, pumps, compressors, blowers, tanks, filters, and similar equipment; and

• a hot oil system, including a waste heat recovery unit and distribution components.

In addition, the CCS System Amendment would consist of a carbon sequestration pipeline, which would extend from the Rio Grande LNG Terminal site to a geologic sequestration formation. The location of the Rio Grande LNG Terminal site, where the FERC-jurisdictional CCS System Amendment facilities are proposed, is shown in appendix 2. Although Rio Grande has not yet determined the location of the specific geological formation it would use, or the exact length and location of the sequestration pipeline, Rio Grande has indicated that it may co-locate the proposed CCS System pipeline along a portion of Rio Bravo Pipeline route (shown on the map in appendix 2), which was authorized in Docket No. CP16-455-000.

Land Requirements for Construction

Construction of the proposed CCS System Amendment facilities would disturb areas within the previously authorized Rio Grande LNG Terminal boundary, but would not result in new land requirements beyond that required for construction of the LNG Terminal (Docket No. CP16-454-000). Rio Grande states that it has not finalized the planned non-jurisdictional CCS System pipeline and the associated land requirements along the planned the pipeline's route. FERC staff's environmental document will include the most current information about the planned non-jurisdictional pipeline based on publicly available information. Following construction, Rio Grande would not require any additional acreage for permanent operation of the FERC-jurisdictional CCS System Amendment facilities.

NEPA Process and the Environmental Document

Any environmental document issued by the Commission will discuss impacts that could occur as a result of the construction and operation of the proposed project amendment under the relevant general resource areas:

• geology and soils;

• water resources and wetlands;

• vegetation and wildlife;

• threatened and endangered species;

• cultural resources;

• land use;

• socioeconomics and environmental justice;

• air quality and noise;

• reliability and safety; and

• cumulative impacts.

Commission staff will also evaluate reasonable alternatives to the proposed project amendment or portions of the project amendment and make recommendations on how to lessen or avoid impacts on the various resource areas. Your comments will help Commission staff identify and focus on the issues that might have an effect on the human environment and potentially eliminate others from further study and discussion in the environmental document.

Following this scoping period, Commission staff will determine whether to prepare an Environmental Assessment (EA) or an Environmental Impact Statement (EIS). The EA or the EIS will present Commission staff's independent analysis of the issues. If Commission staff prepares an EA, a Notice of Schedule for the Preparation of an Environmental Assessment will be issued. The EA may be issued for an allotted public comment period. The Commission would consider timely comments on the EA before making its decision regarding the proposed project amendment. If Commission staff prepares an EIS, a Notice of Intent to Prepare an EIS/Notice of Schedule will be issued. Staff will then prepare a draft EIS which will be issued for public comment. Commission staff will consider all timely comments received during the comment period on the draft EIS and revise the document, as necessary, before issuing a final EIS. Any EA or draft and final EIS will be available in electronic format in the public record through eLibrary ³ and the Commission's natural gas environmental documents web page (https://www.ferc.gov/industries-data/natural-gas/environment/environmental-documents). If eSubscribed, you will receive instant email notification when the environmental document is issued.

³ For instructions on connecting to eLibrary, refer to the last page of this notice.

With this notice, the Commission is asking agencies with jurisdiction by law and/or special expertise with respect to the environmental issues of this project amendment to formally cooperate in the preparation of the environmental document.⁴ Agencies that would like to request cooperating agency status should follow the instructions for filing comments provided under the Public Participation section of this notice.

⁴ The Council on Environmental Quality regulations addressing cooperating agency responsibilities are at Title 40, Code of Federal Regulations, Section 1501.8.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the project amendment's potential effects on historic properties.⁵ The environmental document for this project amendment will document findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project amendment and includes a mailing address with their comments. Commission staff will update the environmental mailing list as the analysis proceeds to ensure that Commission notices related to this environmental review are sent to all individuals, organizations, and government entities interested in and/or potentially affected by the proposed project amendment.

If you need to make changes to your name/address, or if you would like to remove your name from the mailing list, please complete one of the following steps:

(1) Send an email to GasProjectAddressChange@ferc.gov stating your request. You must include the docket number CP22-17-000 in your request. If you are requesting a change to your address, please be sure to include your name and the correct address. If you are requesting to delete your address from the mailing list, please include your name and address as it appeared on this notice. This email address is unable to accept comments.

OR

(2) Return the attached “Mailing List Update Form” (appendix 3).

Additional Information

Additional information about the project amendment is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 2, 2022.
Kimberly D. Bose,
Secretary.

[FR Doc. 2022-19474 Filed 9-8-22; 8:45 am]

BILLING CODE 6717-01-P